DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of March 9, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Gulf County, Florida and Incorporated Areas
Docket No.: FEMA-B-1977
City of Port St. Joe | Building Department, 1002 10th Street, Port St. Joe, FL 32456.
City of Wewahitchka | Administration Department, 318 South 7th Street, Wewahitchka, FL 32465.
Unincorporated Areas of Gulf County | Gulf County Emergency Management Department, 1000 Cecil G. Costin, Sr. Boulevard, Port St. Joe, FL 32456.
Okaloosa County, Florida and Incorporated Areas
Docket No.: FEMA-B-1652
City of Crestview | Community Development Services Department, 198 North Wilson Street, Crestview, FL 32536.
City of Destin | City Hall, 4200 Indian Bayou Trail, Destin, FL 32541.
City of Fort Walton Beach | Growth Management Department, 105 Miracle Strip Parkway Southwest, Fort Walton Beach, FL 32548.
City of Laurel Hill | Administration Department, 8209 Highway 85 North, Laurel Hill, FL 32567.
City of Mary Esther | Code Enforcement, Planning, and Zoning Department, 195 Christobal Road North, Mary Esther, FL 32569.
City of Niceville | Public Library, 206 Partin Drive North, Niceville, FL 32578.
City of Valparaiso | Administration Department, 465 Valparaiso Parkway, Valparaiso, FL 32580.
Town of Cinco Bayou | Administration Department, 10 Yacht Club Drive, Cinco Bayou, FL 32548.
Town of Shalimar | Administration Department, 2 Cherokee Road, Shalimar, FL 32579.
Unincorporated Areas of Okaloosa County | Okaloosa County Growth Management Administration, 1250 North Eglin Parkway, Suite 301, Shalimar, FL 32579.
Red Lake County, Minnesota and Incorporated Areas
Docket Nos.: FEMA-B-1965
City of Brooks | Brooks Community Federal Credit Union, 200 Main Street, Brooks, MN 56715.
City of Oklee | Oklee Municipal Center, 301 Main Street, Oklee, MN 56742.
City of Plummer | Municipal Building, 185 Minnesota Street, Plummer, MN 56748.
City of Red Lake Falls | City Hall, 108 2nd Street Southwest, Red Lake Falls, MN 56750.
Red Lake Band of Chippewa Tribe | Red Lake Nation Government Center, 15484 Migizi Drive, Red Lake, MN 56671.
Unincorporated Areas of Red Lake County | Red Lake County Courthouse, 124 Langevin Avenue, Red Lake Falls, MN 56750.
St. Charles County, Missouri and Incorporated Areas
Docket No.: FEMA-B-1873
City of St. Charles | City Hall, 200 North 2nd Street, St. Charles, MO 63301.
Unincorporated Areas of St. Charles County | County Administration Building, 201 North 2nd Street, Suite 420, St. Charles, MO 63301.
Defiance County, Ohio and Incorporated Areas
Docket No.: FEMA-B-1972
City of Defiance | City Hall, 631 Perry Street, Defiance, OH 43512.
Unincorporated Areas of Defiance County | Defiance County Building, 500 Court Street, Defiance, OH 43512.
Lorain County, Ohio and Incorporated Areas
Docket No.: FEMA-B-1806 and FEMA-B-1965
City of Avon Lake | City Hall, Engineering and Public Works Department, 150 Avon Belden Road, Avon Lake, OH 44012.
City of Lorain | City Hall, Engineering Department, 200 West Erie Avenue, 4th Floor, Lorain, OH 44052.
City of Sheffield Lake | Building/Fire Department, 4750 Richelieu Avenue, Sheffield Lake, OH 44054.
City of Vermilion | City Hall, 5511 Liberty Avenue, Vermilion, OH 44089.

[FR Doc. 2020-24973 Filed 11-10-20; 8:45 am]

BILLING CODE 9110-12-P